DEPARTMENT OF THE INTERIOR

National Park Service

[NPS-WASO-CONC-ABSV-14349; PPWOBSADC0, PPMVSCS1Y.Y00000]

Notice of Extension of Concession Contracts

AGENCY: National Park Service, Interior.

ACTION: Public Notice.

SUMMARY: The National Park Service hereby gives public notice that it proposes to extend the following expiring concession contracts for a period of up to 1 (one) year, or until the effective date of a new contract, whichever occurs sooner.

DATES: Effective January 1, 2014.

FOR FURTHER INFORMATION CONTACT: Ben Erichsen, Chief, Commercial Services Program, National Park Service, 1201 Eye Street NW., 11th Floor, Washington, DC 20005, Telephone (202) 513-7156.

SUPPLEMENTARY INFORMATION: All of the listed concession authorizations will expire by their terms on or before December 31, 2013. Pursuant to 36 CFR 51.23, the National Park Service has determined that the proposed short-term extensions are necessary in order to avoid interruption of visitor services and has taken all reasonable and appropriate steps to consider alternatives to avoid such interruption.

CONCID | Concessioner | Park unit
DENA005-04 | Rainier Mountaineering, Inc | Denali National Park and Preserve.
DENA006-04 | Mountain Trip International, LLC | Denali National Park and Preserve.
DENA008-04 | Alaska Mountaineering School, LLC | Denali National Park and Preserve.
DENA009-04 | Alpine Ascents International, Inc | Denali National Park and Preserve.
DENA010-04 | American Alpine Institute, Ltd | Denali National Park and Preserve.
DENA011-04 | National Outdoor Leadership School | Denali National Park and Preserve.
GLBA035-04 | Glacier Bay Sea Kayaks, Inc | Glacier Bay National Park and Preserve.
ACAD001-03 | The Acadia Corporation | Acadia National Park.
ACAD010-04 | National Park Tours and Transport, Inc | Acadia National Park.
ACAD011-04 | Oli's Trolley | Acadia National Park.
CACO003-02 | The Town of Truro | Cape Cod National Seashore.
COLO006-03 | Debi A. Helseth | Colonial National Historical Park.
DEWA001-04 | Teresa A. Toomer and Walter D. Toomer | Delaware Water Gap National Recreation Area.
GATE001-02 | Jamaica Bay Riding Academy, Inc | Gateway National Recreation Area.
GATE017-03 | JEN Marine Development, LLC | Gateway National Recreation Area.
GATE020-04 | Global Golf Services, Inc | Gateway National Recreation Area.
HOSP001-04 | Hot Springs Advertising and Promotion Commission | Hot Springs National Park.
ISRO006-04 | Jon S. Safstrom | Isle Royale National Park.
NACE003-06 | Buzzard Point Corporation | National Capital Parks—East.
OZAR015-04 | Kim Smith | Ozark National Scenic Riverways.
BICA007-09 | LuCon Corporation | Bighorn Canyon National Recreation Area.
CANY022-04 | OARS Canyonlands, Inc | Canyonlands National Park.
CANY024-04 | Niskanen and Jones, Inc | Canyonlands National Park.
CANY025-04 | NAVTEC Expeditions, Inc | Canyonlands National Park.
CANY026-04 | Niskanen and Jones, Inc | Canyonlands National Park.
CANY027-04 | 3-D River Visions, Inc | Canyonlands National Park.
DINO001-04 | Adventure Bound, Inc | Dinosaur National Monument.
DINO002-04 | American River Touring Association, Inc | Dinosaur National Monument.
DINO003-04 | Outward Bound West | Dinosaur National Monument.
DINO005-04 | Holiday River Expeditions, Inc | Dinosaur National Monument.
DINO006-04 | Don Hatch River Expeditions, Inc | Dinosaur National Monument.
DINO008-04 | Tyler Callantine | Dinosaur National Monument.
DINO009-04 | OARS Canyonlands, Inc | Dinosaur National Monument.
DINO0011-04 | National Outdoor Leadership School | Dinosaur National Monument.
DINO0012-04 | Sheri Griffith Expeditions, Inc | Dinosaur National Monument.
DINO0014-04 | Eagle Outdoor Sports, Inc | Dinosaur National Monument.
DINO0016-04 | AA, LLC | Dinosaur National Monument.
GRCA001-02 | Xanterra Parks and Resorts, LLC | Grand Canyon National Park.
GRTE024-03 | Jackson Hole Mountain Resort Corporation | Grand Teton National Park.
GRTE046-03 | Gros Ventre River Ranch | Grand Teton National Park.
ROMO003-04 | Andrews, Bicknell, and Crothers, LLC | Rocky Mountain National Park.
WHSA001-05 | White Sands Trading, LLC | White Sands National Monument.
YELL102-04 | Adventures Outfitting, LLC | Yellowstone National Park.
YELL103-04 | Triangle X Ranch | Yellowstone National Park.
YELL104-04 | Stillwater Outfitters, LLC | Yellowstone National Park.
YELL105-04 | Bear Paw Outfitters | Yellowstone National Park.
YELL106-04 | Jackson Hole Llamas | Yellowstone National Park.
YELL107-04 | Wyoming Backcountry Adventures, Inc | Yellowstone National Park.
YELL108-04 | Sunrise Pack Station, LLC | Yellowstone National Park.
YELL110-04 | Mountain Sky Guest Ranch, LLC | Yellowstone National Park.
YELL113-04 | 7D Ranch, LLC | Yellowstone National Park.
YELL115-04 | Gary Fales Outfitting, Inc | Yellowstone National Park.
YELL117-04 | Scott Sallee | Yellowstone National Park.
YELL118-04 | Yellowstone Mountain Guides, Inc | Yellowstone National Park.
YELL120-04 | Slough Creek Outfitters, Inc | Yellowstone National Park.
YELL121-04 | Yellowstone Llamas | Yellowstone National Park.
YELL122-04 | Sheep Mesa Outfitters | Yellowstone National Park.
YELL123-04 | Castle Creek Outfitters and Guide Service | Yellowstone National Park.
YELL124-04 | Jake's Horses, Inc | Yellowstone National Park.
YELL125-04 | Big Bear Outfitters | Yellowstone National Park.
YELL126-04 | Yellowstone Wilderness Outfitters | Yellowstone National Park.
YELL127-04 | Medicine Lake Outfitters | Yellowstone National Park.
YELL130-04 | Skyline Guest Ranch and Guide Service, Inc | Yellowstone National Park.
YELL131-04 | Hell's A-Roarin' Outfitters, Inc | Yellowstone National Park.
YELL132-04 | Nine Quarter Circle Ranch, Inc | Yellowstone National Park.
YELL134-04 | Dave Hettinger Outfitting | Yellowstone National Park.
YELL137-04 | R.K. Miller's Wilderness Pack Trips, Inc | Yellowstone National Park.
YELL138-04 | Yellowstone Roughriders, LLC | Yellowstone National Park.
YELL139-04 | Hoof Beat Recreational Services | Yellowstone National Park.
YELL140-04 | Black Otter, Inc | Yellowstone National Park.
YELL141-04 | Lost Fork Ranch | Yellowstone National Park.
YELL144-04 | Lone Mountain Ranch, Inc | Yellowstone National Park.
YELL145-04 | Dollar, Inc | Yellowstone National Park.
YELL146-04 | K Bar Z Guest Ranch and Outfitters, LLC | Yellowstone National Park.
YELL147-04 | Yellowstone Outfitters | Yellowstone National Park.
YELL148-04 | Kevin V. & Deborah A. Little | Yellowstone National Park.
YELL156-04 | Two Ocean Pass Outfitting | Yellowstone National Park.
YELL157-04 | Beartooth Plateau Outfitters, Inc | Yellowstone National Park.
YELL158-04 | Wilderness Trails, Inc | Yellowstone National Park.
YELL159-04 | Colby Gines' Wilderness Adventures, LLC | Yellowstone National Park.
YELL162-04 | Grizzly Ranch | Yellowstone National Park.
YELL164-04 | TNT Ranch, LLC | Yellowstone National Park.
YELL165-04 | Gunsel Horse Adventures | Yellowstone National Park.
YELL166-04 | ER Ranch Corporation | Yellowstone National Park.
YELL168-04 | Llama Trips in Yellowstone | Yellowstone National Park.
YELL170-04 | Rockin' HK Outfitters, Inc | Yellowstone National Park.
ZION001-03 | Bryce-Zion Trail Rides, Inc | Zion National Park.
MORA002-88 | Guest Services, Inc | Mount Rainier National Park.
YOSE003-08 | Kirstie Dunbar-Kari | Yosemite National Park.

Under the provisions of current concession contracts and pending the completion of the public solicitation of a prospectus for a new concession contract, the National Park Service authorizes extension of visitor services for the contracts below until the dates shown under the terms and conditions of the current contract as amended. The extension of operations does not affect any rights with respect to selection for award of a new concession contract.

CONCID | Concessioner | Extend until:
GLBA001-04 | Glacier Bay National Park and Preserve Concessions, LLC | September 30, 2015.
STLI001-07 | Statue Cruises, LLC | September 30, 2019.
BLRI003-04 | Parkway Inn, Inc. | December 31, 2014.
AMIS002-12 | Southwest Lake Resorts, LLC | December 31, 2014.
JODR003-04 | ARAMARK Togwotee, LLC | March 31, 2015.
JODR013-04 | Rocky Mountain Snowmobile Tours | March 31, 2015.
JODR015-04 | Jackson Hole Adventure Center, LLC | March 31, 2015.
YELL300-04 | Yellowstone Expeditions | March 31, 2015.
YELL301-04 | Loomis Recreational, Inc. | March 31, 2015.
YELL302-04 | See Yellowstone Tours, Inc. | March 31, 2015.
YELL303-04 | Yellowstone Winter Guides, Inc. | March 31, 2015.
YELL304-04 | Triangle C Ranch, LLC | March 31, 2015.
YELL305-04 | Loomis Recreational, Inc. | March 31, 2015.
YELL306-04 | Buffalo Bus Touring Company | March 31, 2015.
YELL307-04 | Buffalo Bus Touring Company | March 31, 2015.
YELL308-04 | Buffalo Bus Touring Company | March 31, 2015.
YELL402-04 | Backcountry Adventure, Inc. | March 31, 2015.

Dated: February 10, 2014.
Lena McDowall,
Associate Director, Business Services.

[FR Doc. 2014-03349 Filed 2-14-14; 8:45 am]

BILLING CODE 4312-53-P